OFFICE OF THE UNITED STATES TRADE REPRESENTATIVE

Technical Corrections to the Harmonized Tariff Schedule of the United States

AGENCY: Office of the United States Trade Representative.

ACTION: Notice.

SUMMARY: The U.S. Trade Representative is making technical corrections to the Harmonized Tariff Schedule of the United States (HTSUS), as set forth in the Annex to this notice.

DATES: The changes made by this notice are applicable as of July 1, 2020.

FOR FURTHER INFORMATION CONTACT: Janet Heinzen, Deputy Assistant U.S. Trade Representative, Office of Textiles, at janet.e.heinzen@ustr.eop.gov or (202) 395-6092; or Leigh Bacon, Senior Associate General Counsel, at lbacon@ustr.eop.gov or (202) 395-5859.

SUPPLEMENTARY INFORMATION: Proclamation 10053 of June 29, 2020 (85 FR 39821) implemented the U.S.-Mexico-Canada Agreement (USMCA or Agreement). Annexes I and II to Proclamation 10053 made modifications to the HTSUS in order to implement the tariff treatment provided under the Agreement, including the tariff treatment provided for certain textile and apparel goods (see Annex II to Proclamation 10053 at Section E, paragraph (5)). The Annex to this notice modifies the provisions of the HTSUS that were added by Proclamation 10053 to correct inadvertent errors to provide the intended tariff treatment.

Proclamation 6969 of January 27, 1997 (62 FR 4415) authorizes the U.S. Trade Representative to exercise the authority provided to the President under section 604 of the Trade Act of 1974 (19 U.S.C. 2483) to embody rectifications, technical or conforming changes, or similar modifications in the HTSUS. Pursuant to this delegated authority, the U.S. Trade Representative is modifying the HTSUS to make the technical changes set out in the Annex to this notice.

Annex

Effective with respect to goods of USMCA countries entered for consumption, or withdrawn from warehouse for consumption, on or after 12:01am Eastern Daylight Time on July 1, 2020, subchapter XXIII of chapter 98 of the HTS is modified:

(1) by inserting “9823.52.04” in the “Heading/Subheading” column for the article description, “Cotton or man-made fiber fabrics and made up goods as provided in note 11(a)(ii)”, and by redesignating subheading 9823.52.04, with the article description “Goods provided for in note 11(a)(ii)(A)”, as 9823.52.05;

(2) by redesignating subheading 9823.52.05 as 9823.52.06;

(3) by redesignating subheading 9823.52.06 as 9823.52.07;

(4) by redesignating subheading 9823.52.07 as 9823.52.08; and

(5) by redesignating subheading 9823.52.03, with the article description “Cotton or man-made fiber fabrics and made-up goods as provided for in note 11(b)(ii)”, as 9823.53.03.

Joseph Barloon,
General Counsel, Office of the United States Trade Representative.

[FR Doc. 2020-21921 Filed 10-2-20; 8:45 am]

BILLING CODE 3290-F0-P